DEPARTMENT OF COMMERCE

International Trade Administration

[A-570-095, C-570-096]

Aluminum Wire and Cable From the People's Republic of China: Final Negative Scope Ruling and Final Affirmative Determination of Circumvention With Respect to the Republic of Korea

AGENCY: Enforcement and Compliance, International Trade Administration, Department of Commerce.

SUMMARY: The U.S. Department of Commerce (Commerce) determines that imports of aluminum wire and cable (AWC) completed in the Republic of Korea (Korea) using certain AWC inputs manufactured in the People's Republic of China (China) are not covered by the scope of the antidumping duty (AD) and countervailing duty (CVD) orders on AWC from China. Commerce further determines that AWC completed in Korea using certain AWC inputs manufactured in China are circumventing the AD and CVD orders on AWC from China.

DATES: Applicable January 27, 2025.

FOR FURTHER INFORMATION CONTACT: Trinity Johnson, AD/CVD Operations, Office VII, Enforcement and Compliance, International Trade Administration, U.S. Department of Commerce, 1401 Constitution Avenue NW, Washington, DC 20230; telephone: (202) 482-0114.

SUPPLEMENTARY INFORMATION:

Background

On August 7, 2024, Commerce published in the Federal Register its Preliminary Determinations that imports of AWC completed in Korea using certain AWC inputs manufactured in China are not covered by the scope of the AD and CVD Orders on AWC from China and that imports of AWC completed in Korea using certain AWC inputs are circumventing Orders.¹ Pursuant to section 781(e) of the Tariff Act of 1930, as amended (the Act), on August 13, 2024, Commerce notified the U.S. International Trade Commission (ITC) of its preliminary affirmative determination of circumvention with respect to Korea.² The ITC did not request consultations with Commerce. Between September 16 and 19, 2024, Commerce conducted verification of the questionnaire responses submitted by Pusan Cables & Engineering Co., Ltd. (Pusan).³

¹ See Aluminum Wire and Cable from the People's Republic of China: Preliminary Negative Scope Determinations with Respect to Cambodia, Korea, and Vietnam; Preliminary Affirmative Determinations of Circumvention with Respect to Korea and Vietnam; Preliminary Negative Determination of Circumvention with Respect to Cambodia, 89 FR 64406 (August 7, 2024) (Preliminary Determinations), and accompanying Preliminary Decision Memorandum (PDM); see also Aluminum Wire and Cable from the People's Republic of China: Antidumping and Countervailing Duty Orders, 84 FR 70496 (December 23, 2019) (Orders).

² See Commerce's Letter, “Notification of Affirmative and Negative Preliminary Determinations of Circumvention,” dated August 13, 2024.

³ See Memorandum, “Verification of the Responses of Pusan Cables & Engineering Co. Ltd. in the Circumvention and Scope Inquiry on the Antidumping Duty Order on Aluminum Wire and Cable from People's Republic of China,” dated November 12, 2024.

On November 19, 2024, Gaon Cable Co., Ltd (Gaon Cable); Daewon Cable Co., Ltd. (Daewon Cable); Dong Il Electric Wire Co., Ltd. (Dong Il); and the domestic party Southwire Company LLC (Southwire) submitted case briefs.⁴ On November 26, 2024, Southwire and Pusan submitted rebuttal briefs.⁵ On December 12, 2024, Commerce extended the deadline for the final results of this circumvention and scope inquiry until January 8, 2025.⁶ On January 6, 2025, Commerce further extended the deadline for the final results of this circumvention and scope inquiry until January 17, 2025.⁷

⁴ See Gaon Cable's Letter, “Case Brief of Gaon Cable Co., Ltd.,” dated November 19, 2024; Daewon's Letter, “Case Brief of Daewon Cable Co., Ltd.,” dated November 19, 2024; Dong Il's Letter, “Case Brief of Dong Il Electric Wire Co., Ltd.,” dated November 19, 2024; and Southwire's Letter, “Case Brief,” dated November 19, 2024.

⁵ See Southwire's Letter, “Rebuttal Case Brief regarding Gaon Cable Co., Ltd.,” dated November 26, 2024; Southwire's Letter, “Rebuttal Case Brief regarding Daewon Cable Co., Ltd.,” dated November 26, 2024; and Pusan's Letter, “Pusan Rebuttal to Southwire Brief on Verification,” dated November 26, 2024.

⁶ See Memorandum, “Extension of Deadlines for the Final Determinations in Circumvention Inquiries Pertaining to Korea and Vietnam,” dated December 12, 2024; see also Memorandum “Extension of Deadlines for the Final Determinations in Scope Inquiries Pertaining to Korea and Vietnam,” dated December 12, 2024.

⁷ See Memorandum, “Extension of Deadlines for the Final Determinations in Circumvention Inquiries Pertaining to Korea and Vietnam,” dated January 6, 2025; see also Memorandum “Extension of Deadlines for the Final Determinations in Scope Inquiries Pertaining to Korea and Vietnam,” dated January 6, 2025.

For a summary of events that occurred since the Preliminary Determinations, as well as a full discussion of the issues raised by parties for consideration in the final determination, see the Issues and Decision Memorandum.⁸

⁸ See Memorandum, “Decision Memorandum for the Final Results of the Circumvention Inquiry of the Antidumping and Countervailing Duty Orders on Aluminum Wire and Cable from the People's Republic of China with Respect to the Republic of Korea,” dated concurrently with, and hereby adopted by, this notice.

The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

Scope of the Orders ⁹

⁹ See Aluminum Wire and Cable from the People's Republic of China: Antidumping Duty and Countervailing Duty Orders, 84 FR 70496 (December 23, 2019) (Orders).

The product covered by the scope of the Orders is AWC from China. For a full description of the scope of the Orders, see Appendix I of this notice.

Merchandise Subject to the Scope and Circumvention Inquiries

These inquiries cover AWC assembled or completed in Korea using Chinese-origin AWC inputs (e.g., stranded wire and cables or unfinished AWC) that is subsequently exported from Korea to the United States (inquiry merchandise). These inquiries cover exports of AWC from Korea that are assembled or completed using inputs of Chinese origin which undergo further processing in Korea. For a full description of the merchandise subject to these scope and circumvention inquiries, see Appendix II of this notice.

Analysis of Comments Received

All issues raised in this inquiry are addressed in the Issues and Decision Memorandum. A list of the issues raised is attached to this notice as Appendix III. Based on our analysis of the comments received, we made no changes to the Preliminary Determinations.

Methodology and Final Scope Ruling

Commerce conducted this scope inquiry in accordance with 19 CFR 351.225(k)(1), and it made no changes to its methodology for this final scope ruling. Specifically, as discussed in the Preliminary Determinations, Commerce finds that AWC produced in Korea using Chinese- origin inputs that does not satisfy the physical description of the scope of the Orders is not subject to the Orders.¹⁰

¹⁰ See Preliminary Determinations PDM at 11-14.

Methodology and Final Circumvention Determination

Commerce conducted this circumvention inquiry in accordance with section 781(b) of the Act and 19 CFR 351.226. Commerce made no changes to its methodology for this final circumvention determination. Specifically, as discussed in the Preliminary Determinations, Commerce determines that U.S. imports of inquiry merchandise from Korea are circumventing the Orders.¹¹ As a result, in accordance with section 781(b) of the Act, Commerce determines that the inquiry merchandise exported from Korea should be included within the scope of the Orders. Commerce is making this affirmative determination of circumvention of the Orders on a country-wide basis.

¹¹ Id.

We determine that Korean-origin AWC produced by Pusan with Chinese-origin aluminum production inputs are circumventing the Orders. We have also determined, consistent with 19 CFR 351.226(m), that it is appropriate to apply this affirmative circumvention finding on a country-wide basis. As a result, in accordance with section 781(a) of the Act, we determine that this merchandise is covered by the Orders. We have continued to apply the methodology relied upon for the Preliminary Determinations, including our use of facts available with adverse inferences (AFA) with respect to Daewon Cable, LS Cable & System, Taehwa Co., Ltd., TMC Co., and Gaon Cable pursuant to sections 776(a) and (b) of the Act, for our final determination. As AFA, we continue to determine that AWC exported to the United States by these five companies under AFA are circumventing the Orders. Furthermore, as AFA, we have determined that these companies are ineligible to certify that the AWC exported by these companies from Korea was produced using non-Chinese sourced inputs. For a detailed explanation of our determination, see the Preliminary Determinations and the Issues and Decision Memorandum.

See the “Certified Entries,” “Certification,” and “Certification Requirements” sections, below, for details regarding the use of certifications. See the “Suspension of Liquidation and Cash Deposit Requirements” section, below, for details regarding suspension of liquidation and cash deposit requirements.

Certified Entries

Entries for which importers have met the certification requirements described below and in Appendix IV of this notice will not be subject to suspension of liquidation, or the cash deposit requirements described below. Failure to comply with the applicable requisite certification requirements may result in the merchandise being subject to AD and CVD duties.

Certification

Daewon Cable, Gaon Cable, LS Cable & System, Taehwa Co., Ltd., and TMC Co., Ltd. will not be permitted to certify that their merchandise was not produced from Chinese-origin inputs. For all entries of AWC from Korea produced or exported by these companies, Commerce will direct U.S. Customs and Border Protection (CBP) to suspend liquidation and require a cash deposit at the rate applicable to the AD and CVD Orders on AWC from China, i.e., the AD cash deposit rate established for China-wide entity (52.79 percent) and the CVD cash deposit rate established for all-others (33.44 percent). These suspension of liquidation instructions will remain in effect until further notice.

To administer the final country-wide affirmative circumvention determination for Korea, Commerce has established importer and exporter certifications as provided for in Appendix IV to this notice. These certifications will permit eligible importers and exporters to establish that specific entries of AWC from Korea are not subject to suspension of liquidation or the collection of cash deposits pursuant to these final country-wide affirmative determinations of circumvention because the merchandise was processed in Korea and does not incorporate Chinese-sourced aluminum wire rod, aluminum wire strand, or aluminum wire. Importers and exporters that claim that an entry of AWC is not subject to suspension of liquidation or the collection of cash deposits because the merchandise was processed in Korea and does not incorporate Chinese-sourced aluminum wire rod, aluminum wire strand, or aluminum wire must certify that these products satisfy the requirements of these certification requirements as described in Appendix IV of this notice.

Certification Requirements

Importers are required to complete and maintain the applicable importer certification, and maintain a copy of the applicable exporter certification, and retain all supporting documentation for both certifications. Unless otherwise specified, the importer certification must be completed, signed, and dated by the time the entry summary is filed for the relevant entry. The importer, or the importer's agent, must submit both the importer's certification and the exporter's certification to CBP as part of the entry process by uploading them into the document imaging system (DIS) in ACE. Where the importer uses a broker to facilitate the entry process, the importer should obtain the entry summary number from the broker. Agents of the importer, such as brokers, however, are not permitted to certify on behalf of the importer.

Exporters are required to complete and maintain the applicable exporter certification and provide the importer with a copy of that certification and all supporting documentation (e.g., invoice, purchase order, production records, etc.). The exporter certification must be completed, signed, and dated by the time of shipment of the relevant entries. The exporter certification should be completed by the party selling the AWC that was manufactured in Korea to the United States.

Additionally, the claims made in the certifications and any supporting documentation are subject to verification by Commerce, CBP, or both Commerce and CBP. Importers and exporters are required to maintain the certifications and supporting documentation until the later of: (1) the date that is five years after the latest entry date of the entries covered by the certification; or (2) the date that is three years after the conclusion of any litigation in United States courts regarding such entries.

For all entries of AWC from Korea that were entered, or withdrawn from warehouse, for consumption during the period October 19, 2023 (the date of initiation of these circumvention inquiries) through the date of publication of the Preliminary Determinations in the Federal Register, where the entry has not been liquidated (and entries for which liquidation has not become final), the relevant certification should be completed and signed.

For unliquidated entries (and entries for which liquidation has not become final) of AWC that were declared as non-AD/CVD type entries (e.g., type 01) and entered, or withdrawn from warehouse, for consumption in the United States during the period October 19, 2023 (the date of initiation of these circumvention inquiries) through the date of publication of the final determination in the Federal Register, for which none of the above certifications may be made, importers must file a Post Summary Correction with CBP, in accordance with CBP's regulations, regarding conversion of such entries from non-AD/CVD type entries to AD/CVD type entries (e.g., type 01 to type 03). Importers should report those AD/CVD type entries using the third country CBP case numbers identified in the “Suspension of Liquidation and Cash Deposit Requirements” section, below. The importer should post cash deposits on those entries consistent with the regulations governing post summary corrections that require payment of additional duties, including AD/CVD duties.

If it is determined that an importer and/or exporter has not met the certification and/or related documentation requirements for certain entries, Commerce intends to instruct CBP to suspend, pursuant to these final country-wide affirmative determinations of circumvention and the Orders,¹² all unliquidated entries for which these requirements were not met and require the importer to post applicable AD and CVD cash deposits equal to the rates noted above.

¹² See Orders.

Suspension of Liquidation and Cash Deposit Requirements

Based on the affirmative country-wide determinations of circumvention, in accordance with 19 CFR 351.226(l)(3), we will direct CBP to suspend liquidation and require a cash deposit of estimated duties on unliquidated entries of AWC completed or assembled in Korea using Chinese-origin aluminum rod, aluminum wire, or aluminum wire strand, that were entered, or withdrawn from warehouse, for consumption on or after October 19, 2023, the date of publication of the Initiation Notice. In accordance with 19 CFR 351.226(l)(3), we will direct CBP to continue the suspension of liquidation of previously suspended entries and to suspend liquidation of all entries of AWC completed and assembled in Korea from Chinese-origin aluminum rod, aluminum wire, or aluminum wire strand that are entered, or withdrawn from warehouse, for consumption on or after October 19, 2023 (i.e., the date of publication of the Initiation Notice).¹³

¹³ See generally Aluminum Wire and Cable from the People's Republic of China: Initiation of Scope and Circumvention Inquiries of the Antidumping Duty and Countervailing Duty Orders, 88 FR 72041 (October 19, 2023) (Initiation Notice).

For all suspended U.S. entries of inquiry merchandise, the AD cash deposit rate will be the cash deposit rate for the China-wide entity (i.e., 52.79 percent).¹⁴ For all suspended U.S. entries of inquiry merchandise, the CVD cash deposit rate will be the all-others rate (i.e., 33.44 percent).¹⁵ Commerce has established the following third-country case numbers in the Automated Commercial Environment (ACE) for such entries: Korea A-580-095-000/C-580-096-000.

¹⁴ See Orders.

¹⁵ Id.

Cash deposits for exports of AWC from Korea already subject to the Orders should continue to be collected in accordance with existing CBP instructions and Chinese ACE numbers for such entries: A-570-095/C-570-096.

These suspension of liquidation instructions and cash deposit requirements will remain in effect until further notice.

Opportunity To Request an Administrative Review

Each year during the anniversary month of the publication of an AD or CVD order, finding, or suspended investigation, an interested party, as defined in section 771(9) of the Act, may request, in accordance with 19 CFR 351.213, that Commerce conduct an administrative review of that AD or CVD order, finding, or suspended investigation. Interested parties who wish to request that Commerce conduct an administrative review should wait until Commerce announces via the Federal Register the next window during the anniversary month of the publication of the AD or CVD order to submit such requests. The anniversary month for these Orders is December.

Administrative Protective Order (APO)

This notice will serve as the only reminder to all parties subject to an APO of their responsibility concerning the destruction of proprietary information disclosed under APO in accordance with 19 CFR 351.305(a)(3). Timely written notification of the return or destruction of APO materials or conversion to judicial protective order is hereby requested. Failure to comply with the regulations and the terms of an APO is a sanctionable violation.

Notification to Interested Parties

Commerce is issuing and publishing this notice in accordance with sections 781(b) and 777(i) of the Act, 19 CFR 351.225(h), and 19 CFR 351.226(g)(2).

Dated: January 17, 2025.
Abdelali Elouaradia,
Deputy Assistant Secretary for Enforcement and Compliance.

Appendix I

Scope of the Orders

The merchandise subject to the Orders is aluminum wire and cable, which is defined as an assembly of one or more electrical conductors made from 8000 Series Aluminum Alloys (defined in accordance with ASTM B800), Aluminum Alloy 1350 (defined in accordance with ASTM B230/B230M or B609/B609M), and/or Aluminum Alloy 6201 (defined in accordance with ASTM B398/B398M), provided that: (1) at least one of the electrical conductors is insulated; (2) each insulated electrical conductor has a voltage rating greater than 80 volts and not exceeding 1000 volts; and (3) at least one electrical conductor is stranded and has a size not less than 16.5 thousand circular mil (kcmil) and not greater than 1000 kcmil. The assembly may: (1) include a grounding or neutral conductor; (2) be clad with aluminum, steel, or other base metal; or (3) include a steel support center wire, one or more connectors, a tape shield, a jacket or other covering, and/or filler materials.

Most aluminum wire and cable products conform to National Electrical Code (NEC) types THHN, THWN, THWN-2, XHHW-2, USE, USE-2, RHH, RHW, or RHW-2, and also conform to Underwriters Laboratories (UL) standards UL-44, UL-83, UL-758, UL- 854, UL-1063, UL- 1277, UL-1569, UL-1581, or UL-4703, but such conformity is not required for the merchandise to be included within the scope.

The scope of the Orders specifically excludes aluminum wire and cable products in lengths less than six feet, whether or not included in equipment already assembled at the time of importation. The merchandise covered by the Orders is currently classifiable under subheading 8544.49.9000 of the Harmonized Tariff Schedule of the United States (HTSUS). Products subject to the scope may also enter under HTSUS subheading 8544.42.9090. The HTSUS subheadings are provided for convenience and customs purposes. The written description of the scope of the Orders is dispositive.

Appendix II

Merchandise Subject to the Scope and Circumvention Inquiries

The scope and circumvention inquiries cover AWC completed in Korea using AWC inputs (e.g., stranded wire and cables or unfinished AWC) of Chinese-origin that is subsequently exported to the United States.

Available evidence shows that AWC inputs from China are processed in Korea and subsequently exported to the United States. These inquiries cover exports of AWC made using inputs of Chinese-origin that undergo further processing in Korea.

These final determinations apply to all shipments of inquiry merchandise on or after the date of the initiation of these circumvention and scope inquiries (i.e., October 19, 2023). Importers and exporters of AWC from Korea, even where determined to be out of scope, must still certify that merchandise is not subject to our country-wide finding of circumvention.¹⁶ Otherwise, their merchandise may be subject to antidumping and countervailing duties.

¹⁶ In such instances, see Appendix IV for certification requirements.

Appendix III

List of Topics Discussed in the Issues and Decision Memorandum

I. Summary

II. Background

III. Merchandise Subject to the Scope and Circumvention Inquiries

IV. Period of Circumvention Inquiry

V. Changes From the Preliminary Determination

VI. Use of Facts Available With an Adverse Inference

VII. Discussion of the Issues

Comment 1: Whether Commerce Should Continue To Apply Adverse Facts Available (AFA) to Gaon Cable Co., Ltd. (Gaon Cable) and Daewon Cable Co., Ltd. (Daewon Cable)

Comment 2: Pusan Cables & Engineering Co., Ltd.'s (Pusan) Eligibility To Participate in the Certification Process

VIII. Recommendation

Appendix IV

Importer Certification

I hereby certify that:

(A) My name is {IMPORTING COMPANY OFFICIAL'S NAME} and I am an official of {NAME OF IMPORTING COMPANY}, located at {ADDRESS OF IMPORTING COMPANY}.

(B) I have direct personal knowledge of the facts regarding the importation into the Customs territory of the United States of the aluminum wire and cable (AWC) assembled or completed in Korea that under entry summary number(s), identified below, and are covered by this certification. “Direct personal knowledge” refers to facts the certifying party is expected to have in its own records. For example, the importer should have direct personal knowledge of the importation of AWC, including the exporter's and/or foreign seller's identity and location.

(C) If the importer is acting on behalf of the first U.S. customer, include the following sentence as paragraph C of this certification:

The AWC covered by this certification was imported by {IMPORTING COMPANY} on behalf of {U.S. CUSTOMER}, located at {ADDRESS OF U.S. CUSTOMER}.

If the importer is not acting on behalf of the first U.S. customer, include the following sentence as paragraph C of this certification:

{NAME OF IMPORTING COMPANY} is not acting on behalf of the first U.S. customer.

(D) The AWC covered by this certification was shipped to {NAME OF PARTY IN THE UNITED STATES TO WHOM THE MERCHANDISE WAS FIRST SHIPPED}, located at {U.S. ADDRESS TO WHICH MERCHANDISE WAS SHIPPED}.

(E) I have personal knowledge of the facts regarding the production of the imported products covered by this certification. “Personal knowledge” includes facts obtained from another party, (e.g., correspondence received by the importer (or exporter) from the producer regarding the source of the inputs (i.e., aluminum wire rod, aluminum wire strand, or aluminum wire) used to produce the imported AWC).

(F) This certification applies to the following entries (repeat this block as many times as necessary):

Entry Summary #:

Entry Summary Line Item #:

Foreign Seller:

Foreign Seller's Address:

Foreign Seller's Invoice #:

Foreign Seller's Invoice Line Item #:

Country of Origin of HRS:

Producer:

Producer's Address:

(G) The AWC covered by this certification does not contain aluminum wire rod, aluminum wire strand, or aluminum wire produced in the People's Republic of China.

(H) I understand that {IMPORTING COMPANY} is required to maintain a copy of this certification and sufficient documentation supporting this certification (i.e., documents maintained in the normal course of business, or documents obtained by the certifying party, for example, certificates of origin, product data sheets, mill test reports, productions records, invoices, etc.) until the later of: (1) the date that is five years after the date of the latest entry covered by the certification; or (2) the date that is three years after the conclusion of any litigation in the United States courts regarding such entries.

(I) I understand that {IMPORTING COMPANY} is required to maintain a copy of the exporter's certification (attesting to the production and/or exportation of the imported merchandise identified above), and any supporting documentation provided to the importer by the exporter, until the later of: (1) the date that is five years after the date of the latest entry covered by the certification; or (2) the date that is three years after the conclusion of any litigation in United States courts regarding such entries.

(J) I understand that {IMPORTING COMPANY} is required to provide U.S. Customs and Border Protection (CBP) and/or the U.S. Department of Commerce (Commerce) with the importer certification, and any supporting documentation, and a copy of the exporter's certification, and any supporting documentation provided to the importer by the exporter, upon request of either agency.

(K) I understand that the claims made herein, and the substantiating documentation, are subject to verification by CBP and/or Commerce.

(L) I understand that failure to maintain the required certification and supporting documentation, or failure to substantiate the claims made herein, or not allowing CBP and/or Commerce to verify the claims made herein, may result in a de facto determination that all entries to which this certification applies are within the scope of the antidumping duty and countervailing duty orders on AWC from China. I understand that such finding will result in:

(i) suspension of liquidation of all unliquidated entries (and entries for which liquidation has not become final) for which these requirements were not met;

(ii) the importer being required to post the cash deposits determined by Commerce; and

(iii) the importer no longer being allowed to participate in the certification process.

(M) I understand that agents of the importer, such as brokers, are not permitted to make this certification.

(N) This certification was completed at time of shipment or within 45 days of the date on which Commerce issued its preliminary circumvention determination implementing the certification regime.

(O) I am aware that U.S. law (including, but not limited to, 18 U.S.C. 1001) imposes criminal sanctions on individuals who knowingly and willfully make material false statements to the U.S. government.

Signature

{NAME OF COMPANY OFFICIAL}

{TITLE OF COMPANY OFFICIAL}

{DATE}

Exporter Certification

The party that made the sale to the United States should fill out the exporter certification.

I hereby certify that:

(A) My name is {COMPANY OFFICIAL'S NAME} and I am an official of {NAME OF FOREIGN COMPANY THAT MADE THE SALE TO THE UNITED STATES); located at {ADDRESS OF FOREIGN COMPANY THAT MADE THE SALE TO THE UNITED STATES).

(B) I have direct personal knowledge of the facts regarding the production and exportation of the aluminum wire and cable (AWC) for which sales are identified below. “Direct personal knowledge” refers to facts the certifying party is expected to have in its own records. For example, an exporter should have direct personal knowledge of the producer's identity and location.

(C) The AWC covered by this certification was shipped to {NAME OF PARTY IN THE UNITED STATES TO WHOM THE MERCHANDISE WAS FIRST SHIPPED}, located at {U.S. ADDRESS TO WHICH THE MERCHANDISE WAS SHIPPED}.

(D) The AWC covered by this certification does not contain aluminum wire rod, aluminum wire strand, or aluminum wire produced in the People's Republic of China.

(E) This certification applies to the following sales to {NAME OF U.S. CUSTOMER}, located at {ADDRESS OF U.S. CUSTOMER} (repeat this block as many times as necessary):

Foreign Seller's Invoice # to U.S. Customer:

Foreign Seller's Invoice to U.S. Customer Line item #:

Producer Name:

Producer's Address:

Producer's Invoice # to Foreign Seller: (If the foreign seller and the producer are the same party, put NA here.)

Name of Producer of AWC:

Location (Country) of Producer of AWC:

(F) The AWC covered by this certification was shipped to {NAME OF U.S. PARTY TO WHOM MERCHANDISE WAS SHIPPED}, located at {U.S. ADDRESS TO WHICH MERCHANDISE WAS SHIPPED}.

(G) I understand that {NAME OF FOREIGN COMPANY THAT MADE THE SALE TO THE UNITED STATES} is required to maintain a copy of this certification and sufficient documentation supporting this certification (i.e., documents maintained in the normal course of business, or documents obtained by the certifying party, for example, product data sheets, mill test reports, productions records, invoices, etc.) until the later of: (1) the date that is five years after the latest date of the entries covered by the certification; or (2) the date that is three years after the conclusion of any litigation in the United States courts regarding such entries.

(H) I understand that {NAME OF FOREIGN COMPANY THAT MADE THE SALE TO THE UNITED STATES} is required to provide the U.S. importer with a copy of this certification and is required to provide U.S. Customs and Border Protection (CBP) and/or the U.S. Department of Commerce (Commerce) with this certification, and any supporting documents, upon request of either agency.

(I) I understand that the claims made herein, and the substantiating documentation, are subject to verification by CBP and/or Commerce.

(J) I understand that failure to maintain the required certification and supporting documentation, or failure to substantiate the claims made herein, or not allowing CBP and/or Commerce to verify the claims made herein, may result in a de facto determination that all sales to which this certification applies are within the scope of the antidumping duty order and countervailing duty order on AWC from China. I understand that such a finding will result in:

(i) suspension of all unliquidated entries (and entries for which liquidation has not become final) for which these requirements were not met;

(ii) the importer being required to post the cash deposits determined by Commerce; and

(iii) the seller/exporter no longer being allowed to participate in the certification process.

(K) I understand that agents of the seller/exporter, such as freight forwarding companies or brokers, are not permitted to make this certification.

(L) This certification was completed at time of shipment or within 45 days of the date on which Commerce issued its preliminary circumvention determination implementing the certification regime.

(M) I am aware that U.S. law (including, but not limited to, 18 U.S.C. 1001) imposes criminal sanctions on individuals who knowingly and willfully make material false statements to the U.S. government.

Signature

{NAME OF COMPANY OFFICIAL}

{TITLE OF COMPANY OFFICIAL}

{DATE}

[FR Doc. 2025-01745 Filed 1-24-25; 8:45 am]

BILLING CODE 3510-DS-P